DEPARTMENT OF COMMERCE

International Trade Administration

[A-570-886]

Polyethylene Retail Carrier Bags From the People's Republic of China: Final Results of Antidumping Duty Administrative Review; 2017-2018

AGENCY: Enforcement and Compliance, International Trade Administration, Department of Commerce.

SUMMARY: The Department of Commerce (Commerce) continues to find that High Den Enterprises Ltd. (High Den) is not eligible for a separate rate and is therefore a part of the China-wide entity. The period of review is August 1, 2017 through July 31, 2018.

DATES: Applicable October 1, 2019.

FOR FURTHER INFORMATION CONTACT: Allison Hollander or Minoo Hatten, AD/CVD Operations, Office I, Enforcement and Compliance, International Trade Administration, U.S. Department of Commerce, 1401 Constitution Avenue NW, Washington, DC 20230; telephone: (202) 482-2805 or (202) 482-1690, respectively.

SUPPLEMENTARY INFORMATION:

Background

On June 14, 2019, Commerce published the Preliminary Results ¹ of the administrative review of the antidumping duty (AD) order on polyethylene retail carrier bags (PRCBs) from the People's Republic of China (China).² We invited interested parties to comment on these Preliminary Results. We received no comments from interested parties. As such, these final results are unchanged from the Preliminary Results.

¹ See Polyethylene Retail Carrier Bags from the People's Republic of China: Preliminary Results of Antidumping Duty Administrative Review and Rescission of Review in Part; 2017-2018, 84 FR 27756 (June 14, 2019) and accompanying Preliminary Decision Memorandum (Preliminary Results).

² See Antidumping Duty Order: Polyethylene Retail Carrier Bags from the People's Republic of China, 69 FR 48201 (August 9, 2004) (Order).

Scope of the Order

The products subject to the AD order on PRCBs from China, are PRCBs, which may be referred to as t-shirt sacks, merchandise bags, grocery bags, or checkout bag. Imports of the subject merchandise are currently classifiable under statistical category 3923.21.0085 of the Harmonized Tariff Schedule of the United States (HTSUS). This subheading also covers products that are outside the scope of the order. Furthermore, although the HTSUS subheading is provided for convenience and customs purposes, our written description of the scope of the order is dispositive. For a complete description of the scope of the Order, see the Preliminary Decision Memorandum.

Methodology

Commerce conducted this review in accordance with section 751(a)(1)(B) of the Tariff Act of 1930, as amended (the Act). In the Preliminary Results, Commerce found that High Den failed to respond to the initial questionnaire. Therefore, Commerce preliminarily determined that High Den is not eligible for a separate rate and is therefore part of the China-wide entity. We have not received any information since the issuance of the Preliminary Results that provides a basis for reconsidering this determination. For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and to all parties in the Central Records Unit, room B8024 of the main Commerce building. In addition, a complete version of the Preliminary Decision Memorandum can be accessed directly on the internet at http://enforcement.trade.gov/frn/index.html. The signed and the electronic versions of the Preliminary Decision Memorandum are identical in content.

Final Results of Review

We received no comments pertaining to the Preliminary Results. For the Final results, we made no changes to our preliminary analysis.

Assessment Rates

Pursuant to section 751(a)(2)(C) of the Act and 19 CFR 351.212(b), Commerce has determined, and U.S. Customs and Border Protection (CBP) shall assess, antidumping duties on all appropriate entries of subject merchandise in accordance with the final results of this review. Commerce intends to issue assessment instructions to CBP 15 days after the publication date of the final results of this review. We will instruct CBP to apply the China-wide ad valorem assessment rate of 77.57 percent to all entries of subject merchandise during the POR which were exported by High Den.

Cash Deposit Requirements

The following cash deposit requirements will be effective upon publication of the final results of this administrative review for shipments of the subject merchandise from China entered, or withdrawn from warehouse, for consumption on or after the publication date of this notice, as provided by section 751(a)(2)(C) of the Act: (1) For previously investigated or reviewed Chinese and non-Chinese exporters of subject merchandise that received a separate rate in a prior segment of this proceeding, the cash deposit rate will continue to be the existing exporter specific rate published for the most recently completed period; (2) for all Chinese exporters of subject merchandise that have not been found to be entitled to a separate rate, i.e., High Den, the cash deposit rate will be the China-wide rate of 77.57 percent; and (3) for all non-Chinese exporters of subject merchandise which have not received their own rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as a final reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

The final results of this administrative review are issued and published in accordance with sections 751(a)(1) and 777(i)(1) of the Act and 19 CFR 351.221(b)(5) and 19 CFR 351.213(h)(1).

Dated: September 24, 2019.
Jeffrey I. Kessler,
Assistant Secretary for Enforcement and Compliance.

[FR Doc. 2019-21291 Filed 9-30-19; 8:45 am]

BILLING CODE 3510-DS-P